DEPARTMENT OF DEFENSE

Department of the Navy

[Docket ID: USN-2024-HQ-0005]

Proposed Collection; Comment Request

AGENCY: Department of the Navy (DoN), Department of Defense (DoD).

ACTION: 60-Day information collection notice.

SUMMARY: In compliance with the Paperwork Reduction Act of 1995, the Naval Health Research Center announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 3, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to OPNAV Forms/Information Collections Office (DNS-14), 2000 Navy Pentagon, Room 4E563, Washington, DC 20350-2000, ATTN: Ms. Jaylin Jones, or call 703-614-7585.

SUPPLEMENTARY INFORMATION:

Title; Associated Form; and OMB Number: Male Survivors of Sexual Assault—Investigating Challenges Around Seeking Help; OMB Control Number 0703-MSIC.

Needs and Uses: Given the devastating effects of Military Sexual Trauma (MST) and limited information on male MST specifically, the U.S. Congress specified a requirement to improve the prevention of and response to sexual trauma affecting male service members in the National Defense Authorization Act for Fiscal Year 2016 (Pub. L. 114-92). Furthermore, the Department of Defense (DoD) developed a formalized plan of action to improve prevention and response efforts for male MST. Despite these efforts and consistent with prior research, DoD reports found that active duty men are substantially less likely to report MST relative to active duty women counterparts. As part of the DoD-wide effort to promote help-seeking for sexual assault survivors, the DoN Office of Force Resiliency (OFR) developed and recently updated the Prevention Plan of Action (aka Prevention Plan of Action 2.0, 2022-2024; PPoA 2.0). The PPoA 2.0 is a strategy framework leveraging public health science in military environments to prevent sexual assault in the military and improve response efforts. As part of this initiative, OFR commissioned this study (Agreement #NMR-24-11717) to investigate the help-seeking among men who experienced military sexual violence (i.e., sexual assault or sexual harassment). The present study addresses this requirement by conducting interviews with men who have experienced military sexual violence.

Affected Public: Individuals or households.

Annual Burden Hours: 23.

Number of Respondents: 20.

Responses per Respondent: 1.

Annual Responses: 20.

Average Burden per Response: 70 minutes.

Frequency: Once.

Dated: March 26, 2024.
Aaron T. Siegel,
Alternate OSD Federal Register Liaison Officer, Department of Defense.

[FR Doc. 2024-06916 Filed 4-1-24; 8:45 am]

BILLING CODE 6001-FR-P